DEPARTMENT OF AGRICULTURE

Forest Service

Notice of Lincoln County Resource Advisory Committee Meeting

AGENCY: Forest Service, USDA.

ACTION: Notice of meeting.

SUMMARY: Pursuant to the authorities in the Federal Advisory Committee Act (Public Law 92-463) and under the Secure Rural Schools and Community Self-Determination Act of 2000 (Public Law 106-393) the Kootenai National Forest's Lincoln County Resource Advisory Committee will meet on Wednesday August 3, 2005, at 6 p.m. at the Turner Mountain Ski Lodge 22 miles from Libby, Montana for a business meeting. The meeting is open to the public.

DATES: August 3, 2005.

ADDRESSES: Turner Mountain Ski Lodge, from Libby travel 20 miles North on Pipe Creek Road #68, then turn left onto Forest Service Road 6166, continue to the lodge.

FOR FURTHER INFORMATION CONTACT: Barbara Edgmon, Committee Coordinator, Kootenai National Forest at (406) 293-6211, or e-mail bedgmon@fs.fed.us.

SUPPLEMENTARY INFORMATION: Agenda topics include presentation of project proposals, review and selection of submitted proposals for funding in fiscal year 2006, and receiving public comment. If the meeting date or location is changed, notice will be posted in the local newspapers, including the Daily Interlake based in Kalispell, Montana.

Dated: July 11, 2005
Bob Castaneda,
Forest Supervisor.

[FR Doc. 05-13935 Filed 7-14-05; 8:45 am]

BILLING CODE 3410-11-M